DEPARTMENT OF HOMELAND SECURITY

Federal Emergency Management Agency

[Docket ID FEMA-2014-0002; Internal Agency Docket No. FEMA-B-1440]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 9, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1440, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Mohave County, Arizona, and Incorporated Areas
Maps Available for Inspection Online at: http://www.fema.gov/preliminaryfloodhazarddata
City of Lake Havasu | City Hall, 2330 McCulloch Boulevard North, Lake Havasu City, AZ 86403.
Fort Mojave Indian Tribe | Fort Mojave Indian Reservation, 500 Merriman Avenue, Needles, CA 92363.
Unincorporated Areas of Mohave County | County Administration Building, 700 West Beale Street, Kingman, AZ 86401.
Kings County, California, and Incorporated Areas
Maps Available for Inspection Online at: http://www.fema.gov/preliminaryfloodhazarddata
City of Lemoore | Planning Department, 711 West Cinnamon Drive, Lemoore, CA 93245.
Unincorporated Areas of Kings County | Community Development Agency, 1400 West Lacey Boulevard, Building 6, Hanford, CA 93230.
Los Angeles County, California, and Incorporated Areas
Maps Available for Inspection Online at: http://www.fema.gov/preliminaryfloodhazarddata
City of Calabasas | City of Calabasas, 26134 Mureau Road, Suite 200, Calabasas, CA 91302.
City of Palos Verdes Estates | City of Palos Verdes Estates, 340 Palos Verdes Drive West, Palos Verdes Estates, CA 90274.
Unincorporated Areas of Los Angeles County | Los Angeles County Dept of Public Works, 900 S. Fremont Avenue, Alhambra, CA 91803.
Sacramento County, California, and Incorporated Areas
Maps Available for Inspection Online at: http://www.fema.gov/preliminaryfloodhazarddata
City of Sacramento | Department of Utilities, Engineering and Water Resources Division, 1395 35th Avenue, Sacramento, CA 95822.
Unincorporated Areas of Sacramento County | Municipal Services Agency, Department of Water Resources, 827 7th Street, Suite 301, Sacramento, CA 95814.
Sonoma County, California, and Incorporated Areas
Maps Available for Inspection Online at: http://www.fema.gov/preliminaryfloodhazarddata
City of Petaluma | Community Development Department, 11 English Street, Petaluma, CA 94952.
Unincorporated Areas of Sonoma County | Permit and Resource Management, 2550 Ventura Avenue, Santa Rosa, CA 95403.
Sutter County, California, and Incorporated Areas
Maps Available for Inspection Online at: http://www.fema.gov/preliminaryfloodhazarddata
Unincorporated Areas of Sutter County | Sutter County Water Resources Division, 1130 Civic Center Boulevard, Suite F, Yuba City, CA 95993.
Maui County, Hawaii, and Incorporated Areas
Maps Available for Inspection Online at: http://www.fema.gov/preliminaryfloodhazarddata
Unincorporated Areas of Maui County | County of Maui Planning Department, 2200 Main Street, Suite 315, Wailuku, HI 96793.
Kandiyohi County, Minnesota, and Incorporated Areas
Maps Available for Inspection Online at: http://www.fema.gov/preliminaryfloodhazarddata
City of Lake Lillian | City Hall, 531 Lakeview Street, Lake Lillian, MN 56253.
City of New London | City Hall, 20 First Avenue Southwest, New London, MN 56273.
City of Raymond | City Office, 208 Cofield Street, Raymond, MN 56282.
City of Regal | Mayor's Residence, 14465 293rd Avenue Northeast, Belgrade, MN 56312.
City of Spicer | City Hall, 217 Hillcrest Avenue, Spicer, MN 56288.
City of Willmar | City Office Building, 333 6th Street Southwest, Willmar, MN 56201.
Unincorporated Areas of Kandiyohi County | Kandiyohi County Office Building, 400 Benson Avenue Southwest, Willmar, MN 56201.
Alamance County, North Carolina, and Incorporated Areas
Maps Available for Inspection Online at: http://www.fema.gov/preliminaryfloodhazarddata
City of Burlington | City Hall, Engineering Department, 425 South Lexington Avenue, Burlington, NC 27215.
City of Graham | Planning Department, 201 South Main Street, Graham, NC 27254.
City of Mebane | Planning Department, 106 East Washington Street, Mebane, NC 27302.
Town of Elon | Town Hall, 104 South Williamson Avenue, Elon, NC 27244.
Town of Gibsonville | Planning Department, 129 West Main Street, Gibsonville, NC 27248.
Town of Green Level | Town Hall, 2510 Green Level Church Road, Green Level, NC 27215.
Town of Haw River | Town Hall, 403 East Main Street, Haw River, NC 27258.
Town of Ossipee | Ossipee Town Hall, 2608 Ossipee Front Street, Elon, NC 27244.
Town of Swepsonville | Town of Swepsonville, Alamance County Annex Building, Planning Department, 124 West Elm Street, Graham, NC 27253.
Unincorporated Areas of Alamance County | Alamance County Annex Building Planning Department, 124 West Elm Street, Graham, NC 27253.
Village of Alamance | Alamance Village Hall, 2874 Rob Shepard Drive, Burlington, NC 27215.
Chatham County, North Carolina, and Incorporated Areas
Maps Available for Inspection Online at: http://www.fema.gov/preliminaryfloodhazarddata
Town of Cary | Stormwater Services, Town Hall, 316 North Academy Street, Cary, NC 27513.
Town of Pittsboro | Planning Department, 635 East Street, Pittsboro, NC 27312.
Town of Siler City | Planning Department, 311 North Second Avenue, Room 301, Siler City, NC 27344.
Unincorporated Areas of Chatham County | Chatham County Planning Department, 80-A East Street, Pittsboro, NC 27312.
Orange County, North Carolina, and Incorporated Areas
Maps Available for Inspection Online at: http://www.fema.gov/preliminaryfloodhazarddata
Town of Carrboro | Planning Department, 301 West Main Street, Carrboro, NC 27510.
Town of Chapel Hill | Stormwater Management Program Office, 208 North Columbia Street, Chapel Hill, NC 27514.
Town of Hillsborough | Town Hall, 101 East Orange Street, Hillsborough, NC 27278.
Unincorporated Areas of Orange County | Orange County Planning Department, 306 East Revere Road, Hillsborough, NC 27278.
Philadelphia County, Pennsylvania, and Incorporated Areas
Maps Available for Inspection Online at: http://www.fema.gov/preliminaryfloodhazarddata
City of Philadelphia | Planning Commission Office, One Parkway, 13th Floor, 1515 Arch Street, Philadelphia, PA 19102.
Bennington County, Vermont (All Jurisdictions)
Maps Available for Inspection Online at: http://www.fema.gov/preliminaryfloodhazarddata
Town of Arlington | Town Clerk Building, 3828 Vermont Route 7A, Arlington, VT 05250.
Town of Bennington | Zoning Office, 205 South Street, Bennington, VT 05201.
Town of Dorset | Zoning Office, 112 Mad Tom Road, East Dorset, VT 05253.
Town of Landgrove | Town Hall, 88 Landgrove Road, Landgrove, VT 05148.
Town of Manchester | Planning and Zoning Office, 6039 Main Street, Manchester, VT 05255.
Town of Peru | Town Center, 402 Main Street, Peru, VT 05152.
Town of Pownal | Town Office, 467 Center Street, Pownal, VT 05261.
Town of Readsboro | Town Hall, 301 Phelps Lane, Readsboro, VT 05350.
Town of Rupert | Town Office, 187 East Street, West Rupert, VT 05776.
Town of Sandgate | Town Hall, 3277 Sandgate Road, Sandgate, VT 05250.
Town of Searsburg | Town Hall, 18 Town Garage Road, Searsburg, VT 05363.
Town of Shaftsbury | Cole Hall, 61 Buck Hill Road, Shaftsbury, VT 05262.
Town of Stamford | Town Hall, 986 Main Road, Stamford, VT 05352.
Town of Sunderland | Town Clerk's Office, 181 South Road, Sunderland, VT 05252.
Town of Winhall | Town Hall, 115 Vermont Route 30, Bondville, VT 05340.
Town of Woodford | Town Hall, 1391 Vermont Route 9, Woodford, VT 05201.
Village of Manchester | Village Office, 45 Union Street, Manchester, VT 05254.
Village of North Bennington | 14 Prospect Street, North Bennington, VT 05257.

(Catalog of Federal Domestic Assistance No. 97.022, “Flood Insurance.”)

Dated: August 22, 2014.
Roy E. Wright,
Deputy Associate Administrator for Mitigation, Department of Homeland Security, Federal Emergency Management Agency.

[FR Doc. 2014-21546 Filed 9-9-14; 8:45 am]

BILLING CODE 9110-12-P